DEPARTMENT OF JUSTICE

[OMB Number 1110-0056]

Agency Information Collection Activities; Proposed eCollection eComments Requested; Extension of a Previously Approved Collection

AGENCY: Justice Management Division, Department of Justice.

ACTION: 30-day notice.

SUMMARY: The Department of Justice, Justice Management Division has submitted the following information collection request to the Office of Management and Budget (OMB) for review and clearance in accordance with established review procedures of the Paperwork Reduction Act of 1995. This proposed information collection was previously published in the Federal Register on January 25, 2017, Volume 82, Number 15, Page 8437 allowing for a 60 day comment period.

DATES: Comments are encouraged and will be accepted for an additional 30 days until March 30, 2017.

FOR FURTHER INFORMATION CONTACT: If you have additional comments especially on the estimated public burden or associated response time, suggestions, or need a copy of the proposed information collection instrument with instructions or additional information, please contact Lubna Shirazi, Office of Information Policy, U.S. Department of Justice, Suite 11050, 1425 New York Avenue NW., Washington, DC 20530.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Certification of Identity.

3. The agency form number, if any, and the applicable component of the Department sponsoring the collection: Form DOJ-361. Facilities and Administrative Services Staff, Justice Management Division, U.S. Department of Justice.

4. Affected public who will be asked or required to respond, as well as a brief abstract:

Primary: American Citizens. Other: Federal Government. The information collection will be used by the Department to identify individuals requesting certain records under the Privacy Act. Without this form an individual cannot obtain the information requested.

5. An estimate of the total number of respondents and the amount of time estimated for an average respondent to respond: It is estimated that 70,000 respondents will complete each form within approximately 30 minutes.

6. An estimate of the total public burden (in hours) associated with the collection: There are an estimated total of 35,000 annual burden hours associated with this collection.

If additional information is required contact: Melody Braswell, Department Clearance Officer, United States Department of Justice, Justice Management Division, Policy and Planning Staff, Two Constitution Square, 145 N Street NE., 3E.405B, Washington, DC 20530.

Dated: February 23, 2017.
Melody Braswell,
Department Clearance Officer for PRA, U.S. Department of Justice.

[FR Doc. 2017-03852 Filed 2-27-17; 8:45 am]

BILLING CODE 4410-02-P